SECURITIES AND EXCHANGE COMMISSION

Sunshine Act Meetings

TIME AND DATE: Notice is hereby given, pursuant to the provisions of the Government in Sunshine Act, Public Law 94-409, that the Securities and Exchange Commission Investor Advisory Committee will hold a telephonic meeting on Wednesday, November 7, 2018.

PLACE: The meeting will be open to the public via telephone at 1-800-260-0702, participant code 455778.

STATUS: This meeting will begin at 2:00 p.m. (ET) and conclude at 3:30 p.m. and will be open to the public via telephone. The meeting will be webcast by audio-only on the Commission's website at www.sec.gov.

MATTERS TO BE CONSIDERED: On October 17, 2018, the Commission issued notice of the Committee meeting (Release No. 33-10568), indicating that the meeting is open to the public via telephone, and inviting the public to submit written comments to the Committee. This Sunshine Act notice is being issued because a quorum of the Commission may attend the meeting. The duty officer determined that no earlier notice of this Meeting was practicable.

The agenda for the meeting includes: Welcome remarks; a discussion of the Commission's Proposed Regulation Best Interest and Proposed Form CRS Relationship Summary (including a recommendation of the Investor as Purchaser subcommittee).

CONTACT PERSON FOR MORE INFORMATION: For further information and to ascertain what, if any, matters have been added, deleted or postponed; please contact Brent J. Fields from the Office of the Secretary at (202) 551-5400.

Dated: November 2, 2018.
Brent J. Fields,
Secretary.

[FR Doc. 2018-24405 Filed 11-5-18; 11:15 am]

BILLING CODE 8011-01-P